DEPARTMENT OF THE INTERIOR

National Park Service

National Register of Historic Places; Notification of Pending Nominations and Related Actions

Nominations for the following properties being considered for listing or related actions in the National Register were received by the National Park Service before September 4, 2009.

Pursuant to section 60.13 of 36 CFR, Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 5, 2009.

J. Paul Loether,
Chief, National Register of Historic Places/National Historic Landmarks Program.

CALIFORNIA

Orange County

Stroschein, Carl, House, 31682 El Camino Real, San Juan Capistrano, 09000823.

GEORGIA

Fulton County

Hapeville Historic District, 1-75 E., Mt. Zion Rd. N., I-85 W., and Airport Loop Rd. S., Sylvan and Springdale Rds. W. of I-85, Hapeville, 09000824.

IOWA

Cerro Gordo County

East Park Band Shell, E. State St. between North Carolina and Kentucky, Mason City, 09000825.

Davis County

“Lockkeeper's” House, Whitefish Trail, Eldon, 09000826.

MASSACHUSETTS

Worcester County

West Village Historic District, Allen Hill, Goodnow, Hubbardston, and Radford Rds., Princeton, 09000827.

MINNESOTA

St. Louis County

ROBERT WALLACE (bulk carrier) shipwreck site, (Minnesota's Lake Superior Shipwrecks MPS), Address Restricted, Palmers, 09000828.

MISSOURI

Cape Girardeau County

South Middle Street Historic District, 513 William St., 202-230 S. Middle St., and 203-229 S. Middle, Cape Girardeau, 09000829.

Jackson County

Mercantile Bank & Trust Building, 1101 Walnut St., Kansas City, 09000830.

NEW YORK

Bronx County

Tremont Baptist Church, 324 E. Tremont Ave., Bronx, 09000831.

Onondaga County

South Salina Street Downtown Historic District, S. Salina St., Syracuse, 09000832.

Queens County

Astoria Center of Israel, 27-35 Crescent St., Astoria, 09000833.

Free Synagogue of Flushing, 41-60 Kissena Blvd., Flushing, 09000834.

Wayne County

Alasa Farms, 6450 Shaker Rd., Alton, 09000835.

Palmyra Village Historic District, Portions of Canandaigue, Church, Cuyler, E. and W. Jackson, Market, E. and W. Main Sts., Palmyra, 09000836.

Westchester County

New Rochelle Railroad Station, Between N. Ave. and Memorial Hwy., New Rochelle, 09000837.

Wyoming County

Fleming, Bryant, House, 1024 Tower Rd., Wyoming, 09000838.

TEXAS

Collin County

Celina Public School, 205 S. Colorado St., Celina, 09000839.

Matagorda County

Hill, R.J., Building, 401 Commerce St., Palacios, 09000840.

Price-Farwell House, 308 S. Bay Blvd., Palacios, 09000841.

Request for REMOVAL has been made for the following resources:

HAWAII

Honolulu County

Aiea Sugar Mill, 99-197 Aiea Heights Dr., Aiea, 95001501.

Young, Alexander, Building, Bishop St., Honolulu, 80001284.

[FR Doc. E9-22521 Filed 9-17-09; 8:45 am]

BILLING CODE 4310-70-P